DEPARTMENT OF HEALTH AND HUMAN SERVICES

Request for Applications for the Prevention of HIV/AIDS in Women Living in the Rural South Program

AGENCY: Office on Women's Health, Office of Public Health and Science, Office of the Secretary, Department of Health and Human Services.

ACTION: Notice.

Announcement Type: Competitive Cooperative Agreement—FY 2007 Initial announcement.

Funding Opportunity Number: Not Applicable.

OMB Catalog of Federal Domestic Assistance: The OMB Catalog of Federal Domestic Assistance Number is 93.015.

DATES: No later than 5 p.m. Eastern Time on June 11, 2007.

ADDRESSES: To receive consideration, applications must be received by the Office of Grants Management, Office of Public Health and Science (OPHS), Department of Health and Human Services (DHHS) c/o WilDon Solutions, Office of Grants Management Operations Center, 1515 Wilson Blvd., Third Floor Suite 310, Arlington, VA 22209, Attention Office of Women's Health, HIV.

SUMMARY: This program is authorized by 42 U.S.C. 300u-2(a).

The mission of the Office on Women's Health (OWH) is to promote the health of women and girls through gender-specific approaches. To that end, OWH has established public/private partnerships to address critical women's health issues nationwide. These include supporting collaborative efforts to provide accurate prevention education to rural women living in the rural¹ south² rural South. The emphasis of these efforts is on educational and prevention counseling covering the full spectrum of primary and secondary prevention adapted to a female centered perspective. This initiative is intended to demonstrate a collaborative partnership approach between the grantee and local health or social service providers, e.g., community health centers, rural health centers, family planning clinics, the Special Supplemental Nutrition Program for Women, Infants and Children (WIC), community based organizations, faith based organizations, public assistance programs and local health departments.

¹ Access: http://www.cdc.gov/hiv/graphics/rural-urban.htm for definitions.

² Access: http://www.cdc.gov/hiv/graphics/rural-urban.htm for visual of U.S. south.

The partnership is expected to be a viable strategy for identifying and educating rural women in a culturally appropriate manner that reduces denial, demystifies stigma, clarifies inaccuarate information, and increases knowledge for self-protection and access to counseling and testing resources. It is expected that the prevention education model will provide accurate, culturally, and linguistically appropriate information to women at risk for or living with HIV/AIDS in the rural south.

Funding will be directed at activities designed to improve the delivery of services to women disproportionately impacted by HIV/AIDS.

I. Funding Opportunity Description

The primary purpose of this OWH HIV/AIDS program is to increase HIV prevention knowledge and reduce the risk of contracting HIV among minority women living in the rural south. The goals for this program are:

Develop and sustain HIV prevention services to increase awareness of and receptivity to HIV prevention, including the ABC ³—Abstinence, Being Faithful, Correct and Consistent use of Condoms model, among women living in rural communities in the south experiencing high rates of HIV infection within female populations.

³ USAID. The “ABCs” of HIV prevention: Report of a USAID technical meeting on behavior change approaches to primary prevention of HIV/AIDS. Washington, DC: Population, Health and Nutrition Information Project, 2003. http://www.usaid.gov/our_work/global_health/aids/TechAreas/prevention/abc.pdf

Develop gender specific education and prevention training modules on critical HIV/AIDS primary and secondary prevention/education information. Centers for Disease Control and Prevention recommended effective interventions may be used as well as adapted interventions which demonstrate core elements of interventions with evidence of effectiveness.⁴

⁴ Compendium of HIV Prevention Interventions with Evidence of Effectiveness, CDC's HIV/AIDS Prevention Research Synthesis Project, November 1999.

Implement education and prevention training modules that are culturally and linguistically appropriate for women living in rural communities in the south.

The OWH hopes to fulfill this purpose by providing funding to targeted community-based organizations to enhance their prevention and support activities to women living in the rural south experiencing high rates of HIV infection. The proposed program must address false HIV information, stigma, denial, knowledge, self-protection behaviors and the importance of knowing one's seropositive status. A gender specific approach shall be an integral element of the selected intervention. Information and services provided must be culturally and linguistically appropriate for the individuals for whom the information and services are intended. Women's health issues are defined in the context of women's lives, including their multiple social roles and the importance of relationships with other people to their lives. This definition of women's health encompasses mental, dental, and physical health and spans the life course.

The objectives of the OWH program are to:

1. Increase knowledge of accurate HIV prevention information among women living in rural communities in the south.

2. Improve and increase access to quality HIV prevention services to women living with or at high risk for HIV infection in rural communities in the south.

3. Improve receptivity to and awareness of HIV prevention education necessary to reduce the stigma among women in rural south communities.

4. Increase the number of women living in the rural south voluntarily receiving HIV testing.

In order to achieve the objectives of the program the grantee shall: (1) Establish partnership(s) with local entities after reviewing city/county/State data on HIV incidence among women populations, exploring challenges and trends which enable risks and vulnerabilities of women living in rural south communities. (2) Develop and implement a gender specific model “education and prevention counseling” program to provide accurate prevention education to women living in the rural south. Culture, language, and sub-cultures of rural south populations are considerations for appropriate program components. (3) Develop or select use of existing prevention education training modules on critical HIV/AIDS primary and secondary prevention and education information. (4) Establish Memoranda of Understanding with local health care entities, social services, local small businesses, community and faith based organizations as partners to implement referral coordination for counseling, HIV testing, well woman screenings, and other social service needs. (5) Visit local community assistance offices/small businesses, faith based organizations and other health/social service programs as outreach to communities and women living with HIV/AIDS and who are at risk of infection of HIV/AIDS/STDs. In addition, the grantee shall submit reports outlining program activities (e.g., recruitment, participant retention), which reflect how its implementation process reflected an understanding of the realities of women's lives and addressed the issues of the participants to motivate continued participation. Finally, the grantee shall develop a plan to continue the program activities and community linkages beyond OWH funding and shall illustrate how program performance addressed community needs and the needs of women living in rural south communities experiencing high rates of HIV infection.

The grantee is encouraged to attend at least one national or regional HIV/AIDS Conference (e.g., U.S. Conference on AIDS, the CDC National HIV Prevention Conference, etc.), and to seek updates in HIV prevention strategies, therapies, and priority activities as advised by the CDC, the Health Resources and Services Administration, and other public health experts.

II. Award Information

The OWH program will be supported through the cooperative agreement mechanism. Using this mechanism, the OWH anticipates making five awards in FY 2007. The anticipated start date for new awards is September 01, 2007, and the anticipated period of performance is September 01, 2007, through August 31, 2010. Approximately $500,000 is available to make awards of up to $100,000 total cost (direct and indirect) for a 12-month period. However, the actual number of awards made will depend upon past performance and the quality of the applications received and the amount of funds available for the program.

The program is a collaborative effort between the OWH and the Office of HIV/AIDS Policy, OPHS. These offices will provide the technical assistance and oversight necessary for the implementation, conduct, and assessment of program activities.

The applicant shall:

1. Develop and implement the model described in the application.

2. Provide complete curricula, i.e., topics, content, participant workbook, participant evaluation forms, pre/post instruments, and goals/objectives.

3. Describe training, teaching methods and strategies, e.g., interactive exercises, facilitated discussion, lectures, video/films, community peers, etc., proposed to deliver modules. Describe the intervention format: one time session, series of sessions occurring beyond one day, one day session, etc.

4. Conduct outreach to local entities and community representatives. Identify locations for prevention education sites and identify community liaisons for assistance in identifying prospective women participants.

5. Establish community partnerships through Memoranda of Understanding.

6. Participate in special meetings and projects/funding opportunities identified by the OWH.

7. Adhere to all program requirements specified in this announcement and the Notice of Grant Award.

8. Submit required quarterly progress, annual, and financial reports by the due dates stated in this announcement and the Notice of Grant Award.

9. Comply with the DHHS Protection of Human Subjects regulations (which require obtaining Institutional Review Board approval), set out at 45 CFR Part 46, if applicable. General information about Human Subjects regulations can be obtained through the Office for Human Research Protections (OHRP) at http://www.hhs.gov/ohrp, ohrp@osophs.dhhs.gov, or toll free at (866) 447-4777.

The Federal Government will:

1. Conduct an orientation meeting for the grantees within the first month of funding.

2. Conduct at least one site visit which includes some observation of program progress.

3. Review and approve the prevention education curricula for consistency with the A-B-C strategy.

4. Review all quarterly, annual, and final progress reports.

5. Review and concur with requested project modifications.

6. Review timeline and implementation plan.

7. Participate in telephone conferences and other activities supporting project performance improvements and evaluation

The DHHS is committed to achieving the health promotion and disease prevention Objectives of Healthy People 2010 and the Healthy U.S. Initiative. Emphasis will be placed on aligning OWH activities and programs with the DHHS Secretary's four priority areas—heart disease, cancer, diabetes, and HIV/AIDS and with the Healthy People 2010: Goal 2—eliminating health disparities due to age, gender, race/ethnicity, education, income, disability, or living in rural localities. More information on the Healthy People 2010 objectives may be found on the Healthy People 2010 Web site: http://www.health.gov/healthypeople. One free copy may be obtained from the National Center for Health Statistics (NCHS), 6525 Belcrest Road, Room 1064, Hyattsville, MD 20782 or telephone (301) 458-4636 [DHHS Publication No. (PHS) 99-1256]. This document may also be downloaded from the NCHS Web site: http://www.cdc.gov/nchs.

III. Eligibility Information

1. Eligible Applicants

Eligible applicants must meet all of the following criteria:

1. Organizations located in rural south communities experiencing high HIV prevalence among women;

2. Organizations in or adjacent to rural communities located in the South;4 and

3. Organizations which indicated history of serving African American women, Hispanic women, rural women, poor women, women living with HIV/AIDS, or whose lifestyles place them at high risk for HIV/STD infection.

Eligible entities may include: non profit community-based organizations, faith-based organizations, national organizations, colleges and universities, clinics and hospitals, research institutions, State and local government agencies, tribal government agencies and tribal/urban Indian organizations.

2. Cost Share or Matching

Cost Sharing or Matching funds are not required for this program.

IV. Application And Submission Information

1. Address To Request Application Kit

Application kits may be obtained by accessing Grants.gov at http://www.grants.gov or the e-Grants system at www.grantsolutions.gov. To obtain a hard copy of the application kit, contact WilDon Solutions at 1-888-203-6161. Applicants may fax a written request to WilDon Solutions at 703-351-1135 or e-mail the request to OPHSgrantsinfor@teamwildon.com. Applicants must be prepared using Form OPHS-1, which can be obtained at the Web site noted above.

2. Content and Format of Application and Submission

All completed applications must be submitted to the OPHS Office of Grants Management at the above mailing address. In preparing the application, it is important to follow ALL instructions provided in the application kit. Applications must be submitted on the forms supplied (OPHS-1, Revised 3/2006) and in the manner prescribed in the application kits provided by the OPHS. Applicants are required to submit an application signed by an individual authorized to act for the applicant agency or organization and to assume for the organization the obligations imposed by the terms and conditions of the grant award. The program narrative should not be longer than 25 double spaced pages, not including appendices and required forms, using an easily readable, 12 point font. All pages, figures and tables should be numbered.

A Dun and Bradstreet Universal Numbering System (DUNS) number is required for all applications for Federal assistance. Organizations should verify that they have a DUNS number or take the steps necessary to obtain one. Instructions for obtaining a DUNS number are included in the application package, and may be downloaded from the Web site: http://www.dnb.com/US/duns_update/index.html. At a minimum, each application for a cooperative agreement grant funded under this OWH announcement must:

Present a plan outlining steps to develop and implement a gender specific model program using an evidence based effective intervention with trainers capable of providing accurate prevention information in a culturally and linguistically appropriate manner to rural women in the south. Specify the screening, development and or selection process for the intervention model(s) and the role of advisory committees and/or board of directors.

Provide signed Memoranda of Agreement(s) with partners to establish linkages to identify women participants, location of prevention education sites, and for referral to available services for the targeted population based upon prevention, care, counseling, testing and social service needs.

Detail/specify the roles and resources/services that each partner organization brings to the program, and the duration and terms of agreement as confirmed by a signed MOU/MOA between the applicant organization and each partner. The partnership agreement(s) (MOU/MOA) must name the individual who will work with the program, describe their function, and state their qualifications. The documents, specific to each organization (form letters are not acceptable), must be signed by individuals with the authority to represent and bind the organization (e.g., president, chief executive officer, executive director) and submitted as part of the grant application. Partnership agreements must be on letterhead of partnering agency.

Demonstrate the ways the organization and the prevention education services that are coordinated through its partners are gender and age appropriate, women-focused, women-friendly, women-relevant as well as culturally and linguistically appropriate to the target population.

Be a sustainable organization with an established network of partners capable of providing and coordinating a gender specific prevention education model program in the targeted community. The partners and their roles and responsibilities to the program must be clearly identified in the application. OWH prefers that applicants have a minimum of three years prior demonstrated experience.

Demonstrate that any prevention intervention (including prevention for positives) contains the core elements of interventions with evidence of effectiveness. (See Compendium of HIV Prevention Interventions with Evidence of Effectiveness, from CDC's HIV/AIDS Prevention Research Synthesis Project, Nov. 1999; see CDC's HIV Prevention Strategic Plan 2005.)

Provide a time line and work plan for Program Implementation for the funding year, presented in correlation to goals, objectives, and expected outcomes or targets, demonstrating an understanding of the relationship between programmatic activities and HIV prevention outcomes.

Describe in detail plans for the local evaluation of the program and when and how the evaluation will be used to enhance the program; and describe the approval process of local and state review boards for local evaluation surveys, focus groups, and other client inquiries.

Describe the organization's skill levels in word processing and data management (Word, Word perfect, excel); and specify the filing, storage, and location of client files.

Format and Limitations of Application: Applicants are required to submit an original ink signed and dated application and 2 photocopies. All pages must be numbered clearly and sequential beginning with the Project Summary. The application must be typed double-spaced on one side of plain 8 ½″ x 11″ white paper, using at least a 12 point font, and contain 1″ margins all around.

The Project Summary and Project Narrative must not exceed a total of 25 double-spaced pages, excluding the appendices. The original and each copy must be stapled; the application should be organized in accordance with the format presented in the RFA. An outline for the minimum information to be included in the “Project Narrative” section is presented below. The content requirements for the Project Narrative portion of the application are divided into five sections and described below within each Factor. Applicants must pay particular attention to structuring the narrative to respond clearly and fully to each review Factor and associated criteria. Applications not adhering to these guidelines may not be reviewed.

Background (Understanding of the Problem)

A. Organizations' goals and purpose(s).

B. Demographic profile and HIV prevalence of target rural community and counties with discussion of local norms, tradition, culture of targeted population.

C. Local needs assessment and gaps in services, e.g., prevention, care, and social services for targeted population.

D. Local program objectives

1. Tied to program goal(s);

2. Measurable with time frame.

E. Organizational charts that include partners and a discussion of the proposed resources to be contributed by the partners, personnel, and their expertise and how their involvement will help achieve the program goals.

Implementation Plan (Approach)

A. Discuss gender specific program elements.

B. Describe curriculum and its appropriateness for target population.

C. Describe local evaluation tools, indicators of increased knowledge, reduction in attitudes/stigma, and an increase number voluntarily undergoing HIV testing.

D. Partnerships and referral system/follow up.

Management Plan

A. Key project staff, their resumes, and a staffing chart for budgeted staff.

B. To-be-hired staff and their qualifications.

C. Staff responsibilities.

D. Management experience of the lead agency and partners as related to their role in the Program.

E. Management oversight of staff roles and job performance.

F. Address maintenance of confidentiality, ethics in performance, and on-going staff training.

G. Explain decision making hierarchy.

Local Evaluation Plan

A. Purpose.

B. Describe tools and procedures for measuring strengths and weaknesses.

C. Use of results to enhance programs.

D. Indicators that reflect goals/objectives are being met.

Organizational Agency Qualifications

A. Agency history of performance in prevention education, e.g., developing/adapting prevention education curricula, training skills and expertise, certification in specific training modules, measuring participant learning and satisfaction.

B. Agency relationships, past and current, with women focused programs, local health and social services providers, and community based organizations and representatives.

C. Community acceptance: staff recognition, media, requests for agency involvement.

D. Technical Assistance plans/strategies.

Appendices

A. Memorandums of Agreement/Understanding/Partnership Letters.

B. Required Forms (Assurance of Compliance Form, etc.).

C. Key Staff Resumes.

D. Charts/Tables (Partners, services, population demographics, program components, etc.).

E. Other attachments.

Use of Funds: A majority of the funds from the award must be used to support staff and efforts aimed at implementing the program. The Program Coordinator, or the person responsible for the day-to-day management of the program, must devote at least a 75 percent level of effort to the program. Funds may also be used to transfer the lessons learned/successful strategies/gender specific approaches from the program (technical assistance) through activities such as showcasing the program at conferences, meetings, and workshops; providing direct technical assistance to other communities; and providing technical assistance to other rural south based community organizations, or through their professional organizations, interested in working with women living in the rural south who are living with HIV/AIDS or who are at high risk for HIV/STD infection. These may include either process-based lessons (i.e., How to bring multiple sectors of community partners together) or outcomes-based lessons (i.e., How to increase the number of rural women living in the south who voluntarily undergo HIV testing).

Funds may be used for personnel, consultants, supplies (including screening, education, and outreach supplies), and grant related travel. Funds may not be used for construction, building alterations, equipment, medical treatment, or renovations. All budget requests must be justified fully in terms of the proposed goals and objectives and include an itemized computational explanation/breakout of how costs were determined.

Meetings: The OWH will convene grantees once a year for orientation. The meeting will be held in the Washington metropolitan area or in one of the ten (10) DHHS regional office cities. The budget should include a request for funds to pay for the travel, lodging, and meals. The meeting is usually held within the first six weeks post award.

3. Submission Date and Time

To be considered for review, applications must be received by the Office of Public Health and Science, Office of Grants Management, c/o WilDon Solutions, by 5 p.m. Eastern on June 11, 2007. Applications will be considered as meeting the deadline if they are received on or before the deadline date. The application due date requirement in this announcement supercedes the instructions in the OPHS-1 form.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions (1515 Wilson Blvd., Suite 310, Arlington, VA 22209) no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions Via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions Via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, c/o WilDon Solutions, on or before 5 p.m. Eastern Time on the deadline date specified in the DATES section of the announcement. The application deadline date requirement specified in this announcement supersedes the instructions in the OPHS-1. Applications that do not meet the deadline will be returned to the applicant unread.

Applications will be screened upon receipt. Those that are judged to be incomplete or arrive after the deadline will not be reviewed. Applications that exceed the specified amount for a twelve-month budget period may also not be reviewed. Applications that are judged to be in compliance will be reviewed for technical merit in accordance with DHHS policies. Applications will be evaluated by a technical review panel composed of experts with experience with sex and gender programs, program management, service delivery, outreach, health education, Healthy People 2000 and/or Healthy People 2010, leadership development and program assessment. Consideration for award will be given to applicants that best demonstrate progress and/or plausible strategies for eliminating health disparities through sex and gender targeted HP 2010 objectives. Applicants are also advised to pay close attention to the specific program guidelines and general instructions in the application kit.

4. Intergovernmental Review

This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) A copy of the face page of the application (SF 424), (b) a summary of the project (PHSIS), not to exceed one page, which provides: (1) A description of the population to be served, (2) a summary of the services to be provided, and (3) a description of the coordination planned with the appropriate state or local health agencies. Copies of the letters forwarding the PHSIS to these authorities must be contained in the application materials submitted to the OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following web site: http://www.whitehouse.gov/omb/grants/spoc.html The due date for State process recommendations is 60 days after the application deadline. The OWH does not guarantee that it will accommodate or explain its responses to State process recommendations received after that date. (See Intergovernmental Review of Federal Programs, Executive Order 12372, and 45 CFR Part 100 for a description of the review process and requirements.)

5. Funding Restrictions

Funds may not be used for construction, building alterations, equipment purchase, medical treatment, renovations, or to purchase food.

6. Other Submission Requirements

Beginning October 1, 2003, all applicants are required to obtain a Data Universal Numbering System (DUNS) number as preparation for doing business electronically with the Federal Government. The DUNS number must be obtained prior to applying for OWH funds. The DUNS number is a nine-character identification code provided by the commercial company Dun & Bradstreet, and serves as a unique identifier of business entities. There is no charge for requesting a DUNS number, and you may register and obtain a DUNS number by either of the following methods: Telephone, 1-866-705-5711. Web site: http://www.dnb.com/product/eupdate/requestOptions.html. Be sure to click on the link that reads, “DUNS Number Only” at the right hand, bottom corner of the screen to access the free registration page. Please note that registration via the web site may take up to 30 business days to complete.

V. Application Review Information

1. Criteria: The objective technical review of applications will consider the following factors:

Factor 1: Implementation/Approach * 30%

This section must discuss:

1. Appropriateness of the existing community resources and linkages established to deliver accurate prevention education to meet the requirements of the program. Describe other community providers that will be affiliated with the program and their role in service delivery.

2. Appropriateness of proposed approach, e.g. evidence based intervention and specific activities described to address program objectives.

3. Gender specific elements of proposed process.

4. Soundness of evaluation objectives for measuring program effectiveness, impact of prevention education on knowledge and behavior, and understanding the importance of knowing one's status.

5. Appropriate MOU's or Letters of Intent should support assertions made in this section.

Factor 2: Management Plan—20%

This section must discuss:

1. Applicant's organization capability to manage the project as determined by the qualifications of the proposed staff or requirements for “to be hired” staff;

2. Proposed staff level of effort; management experience of the lead agency; and the experience, resources and role of each partner organization as it relates to the needs and programs/activities of the program;

3. Staff experience as it relates to meeting the needs of the community and populations served.

4. Detailed position descriptions, resumes of key staff, and a staffing chart should be included in the appendix.

Factor 3: Organizational/Agency Qualifications—20%

This section should include demonstrated knowledge of prevention education intervention models, relationships with rural women living in rural communities in the south, and agency history of services to poor women, minority women, HIV infected individuals, and HIV infected women.

Factor 4: Background/Understanding of the Problem—15%

This section must discuss:

1. Description of the current state of affairs for women living in rural communities in the south regarding HIV prevalence, socioeconomic status, access to HIV testing, stigma and availability of HIV prevention education in addition to the review of issues for women living in the program target rural community.

2. Relevance of organizational goals and purpose(s) to community and local needs.

3. Challenges women face in seeking HIV culturally and linguistically appropriate education and counseling and testing in the target rural community and surrounding areas.

4. Outreach, logistics, and stigma issues impacting the target rural community.

Factor 5: Evaluation Plan—15%

Provide a clear statement of program goal(s), feasibility and appropriateness of the local evaluation plan, analysis of results, and procedures to determine if the program goals are met. Provide a clear statement of willingness to participate actively in the national OWH evaluation.

Review and Selection Process: Funding decisions will be made by the OWH, and will take into consideration the recommendations and ratings of the review panel, program needs, geographic location, stated preferences, and the recommendations of DHHS Regional Women's Health Coordinators (RWHC).

VI. Award Administration Information

1. Award Notices

Successful applicants will receive a notification letter from the Deputy Assistant Secretary for Health (Women's Health) and a Notice of Grant Award (NGA), signed by the OPHS Grants Management Officer. The NGA shall be the only binding, authorizing document between the recipient and the OWH. Notification will be mailed to the Program Director identified in the application. Unsuccessful applicants will receive a notification letter with the results of the review of their application from the Deputy Assistant Secretary for Health (Women's Health).

2. Administrative and National Policy Requirements

The regulations set out at 45 CFR parts 74 and 92 are the Department of Health and Human Services (DHHS) rules and requirements that govern the administration of grants. Part 74 is applicable to all recipients except those covered by part 92, which governs awards to State and local governments. Applicants funded under this announcement must be aware of and comply with these regulations. The CFR volume that include parts 74 and 92 may be downloaded from http://www.access.gpo.gov/nara/cfr/waisidx_03/45cfrvl_03.html.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-government sources.

3. Reporting Requirements

In addition to those listed above, a successful applicant will submit a progress report and a final report. This report shall provide a detailed summary of major achievements, problems encountered, and actions taken to overcome them. Progress reports require data collection into the matrix provided by the national evaluator. The final report shall summarize the goals achieved and lessons learned in the course of the contract, and how the program will be sustained. The report shall be format established by the OWH, in accordance with provisions of the general regulations which apply under “Monitoring and Reporting Program Performance,” 45 CFR Parts 74 and 92. The purpose of the quarterly and annual progress reports is to provide accurate and timely program information to program managers and to respond to Congressional, Departmental, and public requests for information about the program. An original and one copy of the quarterly progress report must be submitted by, December 10, March 10, June 10 and final report by August 25. If these dates fall on a Saturday or Sunday, the report will be due on Monday.

A financial Status Report (FSR) SF-269 is due 90 days after the close of each 12-month budget period.

VII. Agency Contact(s)

For application kits, information on budget and business aspects, and programmatic questions of the application, please contact: WilDon Solutions, Office of Grants Management Operations Center, 1515 Wilson Blvd., Third Floor, Suite 310, Arlington, VA 22209 at 1-888-203-6161, e-mail OPHSgrantinfo@teamwildon.com, or fax 703-351-1135.

VIII. Other Information

Three (3) OWH Prevention of HIV/AIDS in Women Living in the Rural South programs are currently funded by the OWH. Information about these programs may be found at the following Web site: http://www.womenshealth.gov/owh/fund/index.htm.

Definitions

For the purposes of this cooperative agreement program, the following definitions are provided:

AIDS: Acquired immunodeficiency syndrome is a disease in which the body's immune system breaks down and is unable to fight off certain infections and other illnesses that take advantage of a weakened immune system.

Age-appropriate: Provision of prevention education that adapts the assessment and overall counseling education to the developmental level of the individual(s)

Community-based: The locus of control and decision-making powers is located at the community level, representing the service area of the community or a significant segment of the community.

Community-based organization: Public and private, nonprofit organizations that are representative of communities or significant segments of communities.

Community health center: A community-based organization that provides comprehensive primary care and preventive services to medically underserved populations. This includes but is not limited to programs reimbursed through the Federally Qualified Health Centers mechanism, Migrant Health Centers, Primary Care Public Housing Health Centers, Healthcare for the Homeless Centers, and other community-based health centers.

Comprehensive women's health services: Services including, but going beyond traditional reproductive health services to address the health needs of underserved women in the context of their lives, including recognition of the importance of family relationships and responsibilities. Services include basic primary care services; acute, chronic, and preventive services including gender and age-appropriate preventive services; mental and dental health services; patient education and counseling; promotion of healthy behaviors (like nutrition, smoking cessation, substance abuse services, and physical activity); and enabling services. Ancillary services are also provided such as laboratory tests, X-ray, environmental, social referral, and pharmacy services.

Culturally competent: Information and services provided at the educational level and in the language and cultural context that are most appropriate for the individuals for whom the information and services are intended. Additional information on cultural competency is available at the following Web site: http://www.aoa.dhhs.gov/May2001/factsheets/Cultural-Competency.html.

Cultural perspective: Recognizes that culture, language, and country of origin have an important and significant impact on the health perceptions and health behaviors that produce a variety of health outcomes.

Enabling services: Services that help women access health care, such as transportation, parking vouchers, translation, child care, and case management.

Gender-Specific: An approach which considers the social and environmental context in which women live and therefore structures information, activities, program priorities and service delivery systems to compliment those factors.

Healthy People 2010: A set of national health objectives that outlines the prevention agenda for the Nation. Healthy People 2010 identify the most significant preventable threats to health and establishes national goals for the next ten years. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 web site: http://www.health.gov/healthypeople.

HIV: The human immunodeficiency virus that causes AIDS.

Holistic: Looking at women's health from the perspective of the whole person and not as a group of different body parts. It includes dental, mental, as well as physical health.

Lifespan: Recognizes that women have different health and psycho social needs as they encounter transitions across their lives and that the positive and negative effects of health and health behaviors are cumulative across a woman's life.

Prevention education: Accurate information to increase knowledge of methods and behaviors to keep individuals from becoming infected with HIV.

Dated: April 3, 2007.
Wanda K. Jones,
Deputy Assistant Secretary for Health, (Women's Health)

[FR Doc. E7-6833 Filed 4-10-07; 8:45 am]

BILLING CODE 4150-33-P